DEPARTMENT OF TRANSPORTATION

National Highway Traffic Safety Administration

[Docket No. NHTSA-2024-0051]

Agency Information Collection Activities; Notice and Request for Comment; Assessing the Fit and Comfort of Motorcycle Safety Gear

AGENCY: National Highway Traffic Safety Administration (NHTSA), Department of Transportation (DOT).

ACTION: Notice and request for public comment on a request for approval of a new collection of information.

SUMMARY: The National Highway Traffic Safety Administration (NHTSA) invites public comments about our intention to request approval from the Office of Management and Budget (OMB) for a new information collection. Before a Federal agency can collect certain information from the public, it must receive approval from OMB. Under procedures established by the Paperwork Reduction Act of 1995, before seeking OMB approval, Federal agencies must solicit public comment on proposed collections of information, including extensions and reinstatement of previously approved collections. This document describes a new collection of information for which NHTSA intends to seek OMB approval to gather information on the personal protective equipment (PPE) motorcyclists wear including helmets and riding jackets, pants, boots, and gloves, how well the PPE fits, and how comfortable riders find it to be.

DATES: Comments must be received on or before March 14, 2025.

ADDRESSES: You may submit comments identified by Docket No. NHTSA-2024-0051 using any of the following methods:

• Electronic submissions: Go to https://www.regulations.gov. Follow the online instructions for submitting comments.

• Fax: 1-202-493-2251.

• Mail or Hand Delivery: Docket Management Facility, U.S. Department of Transportation, 1200 New Jersey Avenue SE, West Building between 9 a.m. and 5 p.m., Monday through Friday, except Federal holidays. To be sure someone is there to help you, please call (202) 366-9322 before coming.

Instructions: Each submission must include the agency name and the docket number for this Notice. Note that all comments received will be posted without change to https://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to https://www.regulations.gov or the street address listed above. Follow the online instructions for accessing the dockets via internet.

FOR FURTHER INFORMATION CONTACT: For additional information or access to background documents, contact Dr. Kathryn Wochinger, Contracting Officer's Representative, Office of Behavioral Safety Research (NPD-310), (202) 366-4300, National Highway Traffic Safety Administration, 1200 New Jersey Avenue SE, Washington, DC 20590.

SUPPLEMENTARY INFORMATION: Under the Paperwork Reduction Act of 1995 (PRA) (44 U.S.C 3501 et seq.), before an agency submits a proposed collection of information to OMB for approval, it must first publish a document in the Federal Register providing a 60-day comment period and otherwise consult with members of the public and affected agencies concerning each proposed collection of information. The OMB has promulgated regulations describing what must be included in such a document. Under OMB's regulations (at 5 CFR 1320.8(d)), an agency must ask for public comment on the following: (i) whether the proposed collection of information is necessary for the proper performance of the functions of the agency, including whether the information will have practical utility; (ii) the accuracy of the agency's estimate of the burden of the proposed collection of information, including the validity of the methodology and assumptions used; (iii) how to enhance the quality, utility, and clarity of the information to be collected; and (iv) how to minimize the burden of the collection of information on those who are to respond, including the use of appropriate automated, electronic, mechanical, or other technological collection techniques or other forms of information technology, for example, permitting electronic submission of responses. In compliance with these requirements, NHTSA asks for public comments on the following proposed collection of information for which the agency is seeking approval from OMB.

Title: Assessing the Fit and Comfort of Motorcycle Safety Gear.

OMB Control Number: New.

Form Numbers: NHTSA Form 2000, NHTSA Form 2001, NHTSA Form 2002, NHTSA Form 2003, NHTSA Form 2004, and NHTSA Form 2005.

Type of Request: New information collection.

Type of Review Requested: Regular.

Requested Expiration Date of Approval: 3 years from date of approval.

Summary of the Collection of Information: NHTSA is seeking approval for a new, one-time information collection from a targeted sample of 625 motorcycle riders (from 1,250 screened for potential participation) about their use and preference for motorcycle protective gear. The study will involve recruiting motorcyclists attending motorcycle events to gather information on the protective gear they are wearing (including footwear, gloves, helmets, jackets, pants) about the perceived and assessed fit and comfort. The study will allow NHTSA to assess the relationship between perceived and objectively measured fit, rider beliefs about the protective value of gear, and factors influencing the selection and use of protective gear.

Participants will be recruited at locations where riders gather such as rallies, training events, or other organized events. The study plan is to recruit an equal number of riders of standard, cruiser, sport, adventure/touring motorcycles, and seated motor scooters. Depending on the venue, the study team will either invite riders to participate at a study tent or conduct the survey near the rider's motorcycle. Study staff will observe gear worn by riders, assess the fit of the gear, and ask riders for their opinions about the fit and comfort of the gear. Data collection will involve the use of a portable tablet for the consent process, and for recording participant responses and staff observations. Participants will self-administer some portions of the survey, while data collectors will verbally ask the participants about their gear during the gear assessments. Anthropometric measurements (e.g., head circumference) will be taken using ribbon tape or an anthropometer as appropriate depending on the gear type being assessed.

The study plan is to assess one type of gear (e.g., jackets) per respondent. Additionally, to obtain information on respondents' perspectives of different types of gear, study staff will use a table to present images of the gear type being assessed (one type per respondent). The images will be of gear ranging in quality; they will include product descriptions but no brand names. Participants will be asked to rate the protection afforded by the gear, its quality, and the likelihood of wearing or purchasing it.

All data collection activities will be voluntary and anonymous. This collection only requires respondents to report their answers; there are no record-keeping costs to the respondents. NHTSA will use the information to produce a technical report that presents summary statistics and tables; a de-identified data set will also be made available to the public. No identifying information will be reported. The study will advance our understanding of how the fit and comfort of gear influences the choice to use or not use gear. This information will inform the development of NHTSA outreach and education motorcycle safety programs. The technical report will be distributed to stakeholders in highway safety and the public.

Description of the Need for the Information and Proposed Use of the Information: NHTSA was established to reduce deaths, injuries, and economic losses resulting from motor vehicle crashes on the Nation's highways. As part of this statutory mandate, NHTSA is authorized to conduct research for the development of traffic safety programs. Title 23, United States Code, chapter 4, section 403 gives the Secretary of Transportation (NHTSA by delegation) authorization to use funds appropriated to conduct research and development activities. The agency develops, promotes, and implements educational, engineering, and enforcement programs with the goal of ending preventable tragedies and reducing economic costs associated with vehicle use and highway travel. Having current data is essential to develop appropriate approaches to improve traffic safety. This is especially true for information on vulnerable road users, such as motorcyclists, where data is much more limited.

In 2022, there were 6,218 motorcyclists killed in traffic crashes, comprising 15 percent of all traffic fatalities that year and representing a fatality rate per vehicle miles traveled of 26.16, nearly 22 times that of passenger car occupants (1.20).¹ These findings demonstrate the inherent risk of motorcycle riding and highlight the importance of wearing personal protective gear, especially a helmet, but including footwear, gloves, jacket, and pants. Nonetheless, not all motorcyclists use gear on every ride.

¹ National Center for Statistics and Analysis. (2024, July). Motorcycles: 2022 data (Traffic Safety Facts. Report No. DOT HS 813 589). National Highway Traffic Safety Administration.

The proposed study addresses the need to understand the relationship between the fit and comfort of personal protective gear and the decision to use gear. The results will assist NHTSA develop its programmatic activities in motorcycle safety by providing information on the types of gear being used, the comfort and fit of gear in use, and deterrents to using protective gear.

Frequency of Collection: This study is intended to be a one-time data collection. Because data collection may occur at multiple events, there is a remote chance an individual could participate more than once. This is not expected, however, as potential participants will not know data collection locations or times.

Affected Public: This study will recruit volunteers who are riders of selected types of motorcycles (standard, cruiser, sport, adventure/touring, scooter) at the data collection locations. Motorcyclists passing by the data collection locations will be recruited to voluntarily participate in an assessment of the fit of their current protective gear (if worn). They will be asked to review images of selected gear and provide their opinions on the gears' protective capabilities, usability, and perceived quality.

Estimated Number of Respondents: The study expects to contact approximately 1,250 motorcyclists at the data collection locations to obtain responses from 625 motorcyclists (125 per type of motorcycle).

Estimated Total Annual Burden Hours: The total amount of burden is estimated to be 340.42 hours. This includes the estimated 312.5 hours for the 625 participates who fully participate, with an average completion time of 30 minutes, and the 18.75 hours for the estimated 75 people who will partially participate, spending 15 minutes on average, and 9.17 hours for the estimated 550 people who received screening items but decline to participate, spending on average of 1 minute.

Estimated Total Annual Burden Cost: The total annual burden cost is estimated to be $15,520 with an annual burden cost of $5,034 (total/3) (see Table 1). Participation in this study is voluntary and there are no costs to respondents beyond the time spent hearing about the study and participating in data collection if they decide to participate. Participants will incur no burden related to annual reporting or record keeping due to the collection of this new information.

Table 1—Summary of Total Burden Hours and Estimated Costs by Type of Participation
Type of participation | Number of respondents | Minutes per respondent | Estimated wage per hour * | Total estimated burden hours | Estimated cost
Rider Fully Participates | 625 | 30 | $45.97 | 312.5 | $14,365.00
Rider Does Not Fully Participate | 75 | 15 | 45.97 | 18.75 | 861.90
Rider Screened but Does Not Participate | 550 | 1 | 45.59 | 9.17 | 418.06
Grand Total | 1,250 |  |  | 340.42 (340) | 15,519.75 (15,520)
* September 2024 total private average hourly earnings (fully loaded at 30%) from the U.S. Bureau of Labor Statistics at https://www.bls.gov/news.release/empsit.t19.htm.

Public Comments Invited: You are asked to comment on any aspects of this information collection, including (i) whether the proposed collection of information is necessary for the proper performance of the functions of the Department, including whether the information will have practical utility; (ii) the accuracy of the Department's estimate of the burden of the proposed information collection; (iii) ways to enhance the quality, utility and clarity of the information to be collected; and (iv) ways to minimize the burden of the collection of information on respondents, including the use of automated collection techniques or other forms of information technology.

Authority: The Paperwork Reduction Act of 1995; 44 U.S.C. chapter 35, as amended; 49 CFR 1.49; and DOT Order 1351.29A.

Nanda Narayanan Srinivasan,
Associate Administrator, Research and Program Development.

[FR Doc. 2025-00406 Filed 1-10-25; 8:45 am]

BILLING CODE 4910-59-P